DEPARTMENT OF ENERGY

Federal Energy Regulatory Commission

Combined Notice of Filings #1

Take notice that the Commission received the following electric rate filings:

Docket Numbers: ER11-3350-001.

Applicants: Public Service Company of Colorado.

Description: Public Service Company of Colorado submits tariff filing per 35: 2011-8-3_Gunbarrel Refund Rep 297-PSCo to be effective N/A.

Filed Date: 08/03/2011.

Accession Number: 20110803-5079.

Comment Date: 5 p.m. Eastern Time on Wednesday, August 24, 2011.

Docket Numbers: ER11-4212-000.

Applicants: Florida Power & Light Company.

Description: Florida Power & Light Company submits tariff filing per 35.13(a)(2)(iii: FPL and City of Wauchula, FL Rate Schedule to be effective 10/1/2011.

Filed Date: 08/03/2011.

Accession Number: 20110803-5078.

Comment Date: 5 p.m. Eastern Time on Wednesday, August 24, 2011.

Docket Numbers: ER11-4213-000.

Applicants: PacifiCorp.

Description: PacifiCorp submits tariff filing per 35.13(a)(2)(iii: BPA AC Intertie Agreement 4th Revised to be effective 10/3/2011.

Filed Date: 08/03/2011.

Accession Number: 20110803-5088.

Comment Date: 5 p.m. Eastern Time on Wednesday, August 24, 2011.

Docket Numbers: ER11-4214-000.

Applicants: PacifiCorp.

Description: PacifiCorp submits tariff filing per 35.13(a)(2)(iii: Sierra Pacific Interconnection Agreement to be effective 9/22/2010.

Filed Date: 08/03/2011.

Accession Number: 20110803-5099.

Comment Date: 5 p.m. Eastern Time on Wednesday, August 24, 2011.

Docket Numbers: ER11-4215-000.

Applicants: Nevada Power Company.

Description: Nevada Power Company Cancellation of FERC Electric Rate Schedule No. 56.

Filed Date: 08/03/2011.

Accession Number: 20110803-5131.

Comment Date: 5 p.m. Eastern Time on Wednesday, August 24, 2011.

Docket Numbers: ER11-4216-000.

Applicants: Nevada Power Company.

Description: Nevada Power Company Cancellation of FERC electric Rate Schedule No. 71.

Filed Date: 08/03/2011.

Accession Number: 20110803-5132.

Comment Date: 5 p.m. Eastern Time on Wednesday, August 24, 2011.

Docket Numbers: ER11-4217-000.

Applicants: Tampa Electric Company.

Description: Request of Tampa Electric Company for Extension of Waiver.

Filed Date: 08/03/2011.

Accession Number: 20110803-5133.

Comment Date: 5 p.m. Eastern Time on Wednesday, August 17, 2011.

Docket Numbers: ER11-4218-000.

Applicants: Nevada Power Company.

Description: Nevada Power Company Cancellation of FERC Electric Rate Schedule No. 72.

Filed Date: 08/03/2011.

Accession Number: 20110803-5134.

Comment Date: 5 p.m. Eastern Time on Wednesday, August 24, 2011.

Take notice that the Commission received the following qualifying facility filings:

Docket Numbers: QF06-31-003.

Applicants: Air Products, LLC.

Description: Air Products LLC's Notice of Application for Commission Certification of Qualifying Facility Status for a Cogeneration Facility.

Filed Date: 08/02/2011.

Accession Number: 20110802-5134.

Comment Date: 5 p.m. Eastern Time on Tuesday, August 23, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 4, 2011.
Kimberly D. Bose,
Secretary.

[FR Doc. 2011-22522 Filed 9-1-11; 8:45 am]

BILLING CODE 6717-01-P